DEPARTMENT OF AGRICULTURE

Rural Housing Service

Request for Proposals (RFP): Demonstration Program for Agriculture, Aquaculture, and Seafood Processor Worker Housing Grants

AGENCY: Rural Housing Service, USDA.

ACTION: Notice.

SUMMARY: The Rural Housing Service (RHS) announces the availability of funds, the timeframe to submit proposals, and the guidelines for proposals for agriculture, aquaculture, and seafood processor worker housing grants in the States of Mississippi and Alaska. Public Law 106-387 (Department of Agriculture, Rural Development, Food and Drug Administration, and Related Agencies Act, 2001) authorizes RHS to establish a demonstration program to provide financial assistance (grants) for agriculture, aquaculture, and seafood processing workers in the States of Mississippi and Alaska. This RFP requests proposals from qualified private and public nonprofit agencies, cooperatives, state and local governments, and tribal organizations in Mississippi and Alaska to construct housing for agriculture, aquaculture, and seafood processing workers. Any one project may not receive grant funds of more than $1.5 million from this program. At least one project in Alaska and one project in Mississippi will be funded under this program. Housing facilities constructed under this RFP are expected to increase the supply of housing for agriculture, aquaculture, and seafood processing workers in markets where adequate housing is not available.

DATES: The deadline for receipt of all applications in response to this RFP is 5 p.m., Eastern Standard Time, on May 14, 2001. The application closing deadline is firm as to date and hour. RHS will not consider any application that is received after the closing deadline. Applicants intending to mail applications must provide sufficient time to permit delivery on or before the closing deadline. Acceptance by a post office or private mailer does not constitute delivery. Facsimile (FAX), COD, and postage due applications will not be accepted.

ADDRESSES: Applications should be submitted to the USDA-Rural Housing Service; Attention: David Layfield, Senior Loan Specialist, USDA, Rural Housing Service, Multi-Family Housing Processing Division, STOP 0781, Room 1239, 1400 Independence Ave., SW., Washington, DC 20250-0781. RHS will date and time certify incoming applications to evidence timely receipt and, upon request, will provide the applicant with a written acknowledgement of receipt.

FOR FURTHER INFORMATION CONTACT: For further information and an application package including all required forms, contact David Layfield, Senior Loan Specialist, USDA, Rural Housing Service, Multi-Family Housing Processing Division, Stop 0781, Room 1239, 1400 Independence Avenue, SW., Washington, DC 20250-0781, telephone (202) 720-1604. (This is not a toll-free number.)

SUPPLEMENTARY INFORMATION:

Paperwork Reduction Act

Under the Paperwork Reduction Act, 44 U.S.C. 3501 et seq., OMB must approve all “collections of information” by the Rural Housing Service. The Act defines “collection of information” as a requirement for “answers to * * * identical reporting or recordkeeping requirements imposed on ten or more persons * * *.” (44 U.S.C. 3502(3)(A).) Because this RFP will receive less than 10 respondents, the Paperwork Reduction Act does not apply.

General Information

The agriculture, aquaculture, and seafood processor worker housing grants authorized by Public Laws 106-387 and 106-554 are for the purpose of developing a housing demonstration program for agriculture, aquaculture, and seafood processor worker housing in markets in Mississippi and Alaska that have a demonstrated need for housing for such workers. Under Public Laws 106-387 and 106-554, RHS has the authority to award $5,000,000 in grant funds for a housing demonstration program for agriculture, aquaculture, and seafood processor workers in Mississippi and Alaska.

I. Purpose

Public Laws 106-387 and 106-554 authorized funds to the Department to implement a demonstration grant program for the construction of housing for agriculture, aquaculture, and seafood processing workers in Mississippi and Alaska.

The demonstration program has been designed to increase the supply of rental housing for a growing segment of the population whose needs are not currently being met. The program is expected to provide housing opportunities for processing workers in markets that cannot support other forms of conventional and government housing models. Developers of housing under this program will receive a grant of up to 75% of the Total Development Cost (TDC) of the project. TDC includes all hard costs, soft costs, initial operating reserves, administrative fees, furnishings and equipment, and related facilities.

Housing constructed under this program may not receive RHS Rental Assistance or Operating Subsidies authorized under 7 U.S.C. 1490a for payment of tenant rents. Project financial models should be structured to work without rental subsidies while keeping rents affordable for the target population.

Projects should be located close to tenants' workplaces and services as much as feasible. Location of the project is limited to rural areas as defined in 42 U.S.C. 1490.

II. Project Threshold Criteria

All applications must meet the minimum threshold requirements contained in this RFP. The threshold criteria are as follows:

A. Occupancy Requirements

Eligibility for residency in facilities constructed under this RFP is limited to individuals and families who earn at least 40% of their income from the processing of agriculture, aquaculture, and seafood commodities and earn less than or equal to 60% of the National Median Income for a family of four as reported by the U.S. Census Bureau. Residents must be United States citizens or legally admitted for permanent residence.

B. Eligible Grantees

Eligibility for grants under this notice is limited to private and public nonprofit agencies, non-profit cooperatives, state and local governments, and tribal organizations. Applicants must possess the experience, knowledge, and capacity to develop affordable multifamily housing in rural areas.

C. Grant Limit

A grant under this RFP may fund up to and including 75% of a project's Total Development Cost (TDC). TDC includes all hard costs, soft costs, initial operating reserves, administrative fees, furnishings and equipment, and related facilities. In addition, any one project may not receive grant funds of more than $1.5 million from this program. At least one project in Alaska and one project in Mississippi will be funded by this program.

D. Eligible Costs

Eligible costs for grants under this RFP include all project related costs including all hard costs, soft costs, initial operating reserves, administrative fees, furnishings and equipment, and related facilities.

E. Term of Use

The project will remain in use for the intended purpose for the life of the project as required under 7 CFR. 3015, 3016, or 3019, as applicable. These provisions require the grant recipient to use the real property for the authorized purpose of the project as long as it is needed.

F. Site Control

The developer must own or demonstrate evidence of site control of the proposed site. At a minimum, site control should extend 180 days past the date of application submission and is preferred to be for one year. Proof of site control should be submitted with the application. This can be in the form of a contract of sale, option agreement, long-term lease agreement, or deed or other documentation of ownership by the applicant. The applicant must exercise care in site selection. Site approval is subject to completion of an environmental assessment by RHS and sites with environmental problems will increase the amount of time necessary to complete this assessment. Proposals which will directly or indirectly impact protected resources, such as floodplains or wetlands, can require consideration of alternative sites, changes in project design, or the implementation of other mitigation measures to lessen adverse effects on the environment.

G. Zoning

A zoning designation adequate to develop the type of housing and number of units proposed is required. Evidence of proper zoning must be included with the application. Where there is a clear plan to have a site rezoned, a narrative explaining the situation and detailing the process and timeline for rezoning may be accepted.

H. Utilities

Adequate capacity to connect the project to water, sewer, electricity, and telephone services must be demonstrated. Letters from utility providers must be included in the application. If on-site utilities are proposed, engineering reports indicating correct soil types, adequate land capacity, etc. must be included in the application.

I. Market Demand

Projects funded under this RFP must be in markets with demonstrated need for agriculture, aquaculture, and seafood processing worker housing. All applications should include documentation of this need in the form of a market analysis, survey, or other documentation of need.

J. Design Characteristics

Housing constructed under this demonstration may be of any architectural style as long as it is permitted by local zoning laws, meets all applicable building codes, and fits with the character of the surrounding community. Building design is subject to the requirements of section 504 of the Rehabilitation Act of 1973, the Americans with Disabilities Act, the Fair Housing Act, and any state or local accessibility requirements. For these reasons, buildings must be designed and constructed in accordance with the Uniform Federal Accessibility Standards, the Americans with Disabilities Act Accessibility Guidelines, the Fair Housing Act Accessibility Guidelines, and any state or local standards.

K. Civil Rights

Title VI of the Civil Rights Act of 1964 prohibits recipients of Federal financial assistance from discriminating in their programs and activities on the basis of race, color, or national origin. It also requires recipients (1) to sign a civil rights assurance agreement (i.e., Form RD 400-4), (2) to collect statistical data on race and national origin, (3) submit to the Agency timely, complete, and accurate compliance reports so that the Agency can determine compliance with program regulations and applicable civil rights laws, and (4) to disseminate information to the public stating that the recipient operates a program that is subject to the non-discrimination requirements of Title VI and briefly explain the procedures for filing complaints.

Section 504 of the Rehabilitation Act of 1973 prohibits recipients of Federal financial assistance from discriminating against persons with disabilities and requires recipients to make their programs and activities accessible to, and usable by, persons with disabilities.

The Fair Housing Act (Title VIII of the Civil Rights Act of 1968, as amended by the Housing Amendments Act of 1988) prohibits discrimination because of race, color, religion, sex, handicap, familial status, and national origin in the sale, rental, or advertising of dwellings in providing services or availability of residential real estate transactions.

The Age Discrimination Act of 1975 prohibits recipients of Federal financial assistance from discriminating in their programs and activities on the basis of age.

As part of the grant proposal, the applicant must provide (1) a notice of all civil rights law suits filed against it; (2) a description of assistance applications they have pending in other Agencies and of Federal assistance being provided; (3) a description of any civil rights compliance reviews of the applicant during the preceding two years; and (4) a statement as to whether the applicant has been found in noncompliance with any civil rights requirements.

Successful applicants have a duty to affirmatively further fair housing. Proposals will include specific steps that the applicant will take to promote and ensure and affirmatively further fair housing.

In the event Federal financial assistance will be used to obtain or improve real property, instruments of conveyance shall contain a covenant running with the land assuring non-discrimination for the period the real property is used for the same or similar purpose for which the Federal financial assistance is being extended, or for another purpose involving the provision of similar services or benefits. The covenant shall be as follows:

“The property described herein was obtained or improved with Federal financial assistance and is subject to the provisions of Title VI of the Civil Rights Act of 1964, section 504 of the Rehabilitation Act of 1973, the Age Discrimination Act of 1975, and the regulations issued thereto. This covenant is in effect for as long as the property continues to be used for the same or similar purpose for which the financial assistance was extended, or for as long as the above recipient owns it, whichever is longer.”

Contractors must comply with the Equal Employment Opportunity Executive Order 11246, as amended by Executive Orders 11478 and 13087, and construction contracts must contain the specific non-discrimination language that is required by the Executive Order.

Before funds are disbursed, a pre-award civil rights compliance review will be conducted by the Agency to determine whether the applicant is, and will be, in compliance with Title VI of the Civil Rights Act of 1964, section 504 of the Rehabilitation Act of 1973, the Fair Housing Act, and the Age Discrimination Act of 1975. In addition, the Agency will conduct a Civil Rights Impact Analysis.

L. Environmental Requirements

All applications are subject to satisfactory completion of the appropriate level of environmental review by RHS in accordance with 7 CFR part 1940, subpart G. For the purposes of 7 CFR part 1940, subpart G, applications under this RFP will be considered multi-family projects.

All applications are subject to the requirements of Executive Order 12898, “Federal Actions to Address Environmental Justice in Minority Populations and Low-income Populations,” as further addressed in Administrative Notice 3548(2006-P), dated April 28, 2000 (available via the Internet at http://rdinit.usda.gov/regs).

All applications are subject to the flood insurance requirements of 7 CFR part 1806, subpart B, and Administrative Notice No. 3538(426.2), dated June 6, 2000 (available via the Internet at http://rdinit.usda.gov/regs).

M. Applicable Regulations

All grants funded under this program must meet the requirements of 7 CFR 3015 and 3016 or 3019, as applicable, RD Instructions 1924-A (7 CFR part 1924, subpart A), and 1924-C (7 CFR part 1924, subpart C).

III. Proposal Format

A. Proposals must include the following:

1. SF-424 “Application for Federal Assistance”.

2. Applicant Financial Statements.

3. HUD 935.2 “Affirmative Fair Housing Marketing Plan”.

4. RD 1944-30 and 1944-31 “Identity of Interest” forms.

5. HUD 2530 “Previous Participation Certification”.

6. RD 1924-13 “Estimate and Certificate of Actual Cost”.

7. RD 1930-7 “Multiple Family Housing Project Budget” including rent schedule and operating and maintenance budget.

8. RD 1940-20 “Request for Environmental Information”.

9. Statement of applicants experience in developing multifamily housing.

10. A Sources and Uses Statement showing all sources of funding included in the proposed project. The terms and schedules of all sources included in the project should be included in the Sources and Uses Statement.

11. Applicant organizational documents (articles of incorporation, by laws, etc.).

12. Narrative description of the proposed project including description of site, housing, amenities, etc.

13. A location map showing the site and surrounding services.

14. Evidence of site control.

15. Evidence of proper zoning or explanation of how proper zoning will be achieved.

16. Evidence of utilities availability or evidence that the site is suitable for on-site utilities.

17. A description of any related facilities including justification and cost of such facilities.

18. Schematic design drawings including a site plan, building elevations, and floor plans.

19. Outline design specifications.

20. A statement agreeing to pay any cost overruns from the applicants own sources.

21. Documentation of need in the form of a market study, survey, or other sources.

22. If seeking points under Evaluation Criteria, a copy of the Tenant Services Plan.

23. If seeking points under Evaluation Criteria, documentation verifying the unemployment rate of the place where the project is located.

B. The above items are required for the RFP response. If a proposal is accepted for further processing, there will be additional submittals required.

IV. Evaluation Criteria

A. Leveraging (Up to 20 Points)

Points will be awarded based on the percent of non-RHS funds specifically identified and designated to supplement RHS funds. Leveraged funds may include donated land per 7 CFR part 1944 subpart E. In the case of donated land, the amount of leveraging will be determined by an opinion of value to be prepared by a licensed appraiser. Points will be awarded as follows:

Percent of leveraging | Points
Over 50% | 20
36% to 50% | 10
25% to 35% | 5

B. Tenant Services (Up to 25 Points)

Points will be awarded based on the presence of and extent to which a tenant services plan exists that clearly outlines services that will be provided to residents of the proposed project.

These services include but are not limited to:

1. Day care or before and after school child care.

2. Computer learning centers.

3. Homeownership and budget counseling.

4. Parenting programs for young parents (such as family support centers), parenting skills sessions for all interested parents, and parent and child activities.

5. Literacy programs (such as book clubs, toddler reading programs, and story groups), libraries, and book sharing groups or centers.

6. Art activities or art centers for children that include painting, photography, ceramics, etc.

7. Health education and referral or health care outreach centers.

8. Job training and preparation centers.

9. Housing services and/or community coordinators.

10. Mentoring programs where young adults mentor adolescents or more established adults mentor other adults.

11. Community meeting centers.

12. Recreation centers located within housing complexes.

13. Nutritional services.

14. Transportation services.

A tenant services plan must be submitted with the application to receive points under this criteria. Points may be awarded based on the extent to which the plan is comprehensive, well defined, feasible, appropriate for the proposed tenant population, innovative, and involves a unique collaboration, partnership, ownership or management structure. Projects that include on-site services must be designed to include the necessary physical space for the services. Letters or agreements documenting a service provider's involvement with the project should be submitted. Five points will be awarded for each resident service included in the tenant services plan up to a maximum of 25 points.

C. High Unemployment (Up to 10 Points)

Points will be awarded to projects which are located in counties, boroughs, or census areas that are characterized by high unemployment levels. Evidence of unemployment rates must be included in the application to receive points under this criterion. All rates must be the 2000 annual average as reported by the state agency responsible for recording and reporting unemployment rates in the proposed state. Points will be awarded as follows:

Unemployment rate | Points
≥10% | 10
≥6%<10% | 5

V. Review Process

All proposals will be received, evaluated, and accepted or rejected by a RHS grant committee. The grant committee will consist of three RHS National Office staff and two RHS staff from the state where the project is located.

The grant committee will inform applicants of proposal acceptance for further processing or rejection within 30 days of the closing date of the RFP.

If the proposal is accepted for further processing, the applicant will be expected to submit additional information prior to grant obligation. In addition, RHS must complete the appropriate level of environmental review prior to grant obligation. The applicant is expected to assist RHS, as necessary, in the development of this environmental review.

Prior to grant obligation, the grant recipient shall enter into a grant agreement with the RHS which shall outline the roles and responsibilities of both parties. A sample grant agreement will be made available to the grant recipient prior to grant obligation.

VI. RHS Monitoring

During construction, RHS will take part in periodic progress meetings at the project site and shall inspect completed work. RHS approval of work completed must be given before grant funds can be disbursed for that work.

RHS monitoring shall continue throughout the useful life of the project or until the grant is terminated under provisions established in 7 CFR parts 3015, 3016, and 3019. Monitoring shall consist of initial and annual tenant certifications, civil rights compliance reviews, tri-annual physical inspections, annual proposed and actual operating budgets, and annual audits. If other funding sources involved in the project require reporting, those formats may be used in place of RHS methods as long as those formats meet RHS requirements.

Tenants and grantees must execute an Agency-approved tenant certification form establishing the tenant's eligibility prior to occupancy. In addition, tenant households must be recertified and must execute a tenant certification form at least annually.

Grantees will submit to a tri-annual (once every three years) physical inspection of the project. RHS will inspect for health and safety issues, deferred maintenance, and other physical problems that can endanger the provision of decent, affordable housing to the target population on a long-term basis.

Annual proposed and actual operating and maintenance budgets will be required to insure that all project needs are being met and all RHS guidelines are being followed. The form of operating and maintenance budgets will be designated by RHS.

The grantee must submit to RHS annual audits of the project finances in accordance with the requirements established by OMB, in accordance with Departmental requirements in 7 CFR part 3052.

Dated: January 19, 2001.
James C. Kearney,
Administrator, Rural Housing Service.

[FR Doc. 01-3510 Filed 2-9-01; 8:45 am]

BILLING CODE 3410-XV-U